DEPARTMENT OF HEALTH AND HUMAN SERVICES

Administration for Children and Families

[OMB NO.: 0970-0151]

Submission for OMB Review; Comment Request; Head Start Child and Family Experiences Survey (FACES)

Description: The Office of Planning, Research and Evaluation (OPRE), Administration for Children and Families (ACF), U.S. Department of Health and Human Services (HHS), is proposing to collect data for a new round of the Head Start Family and Child Experiences Survey (FACES). Similar to FACES 2014-2018, in 2019, two parallel studies will commence. Each study will provide data on a set of key indicators for Head Start programs. FACES 2019 focuses on Head Start Regions I through X (which are geographically based); AI/AN (American Indian and Alaska Native) FACES 2019 focuses on Region XI (which funds Head Start programs that serve federally recognized American Indian and Alaska Native tribes). In fall 2019 and spring 2020, FACES will assess the school readiness skills of 2,400 Head Start children in Regions I-X (FACES 2019) and 800 children in Region XI (AI/AN FACES 2019), survey their parents, and ask their Head Start teachers to rate children's social and emotional skills. This sample will be drawn from 60 programs in Regions I-X and 22 programs in Region XI. In spring 2020 classroom observations of sampled programs will occur. In Regions I-X, the number of programs will increase from the 60 that are used to collect data on children's school readiness outcomes to 180 for the purpose of conducting observations in 720 Head Start classrooms. In Region XI, the program sample will remain at 22, and approximately 80 Head Start classroom observations will take place. Program director, center director, and teacher surveys will also be conducted in spring 2020 in Regions I-XI. In spring 2022, program level data collection will be repeated in Regions I-X only. FACES 2019 also features a “Core Plus” design, with the above activities reflecting the Core data, with the potential of “Plus” studies to inform emerging programmatic questions. If any Plus studies are conducted, they will be conducted within the Core sample.

This notice is specific to the data collection activities needed to recruit Head Start programs and centers into FACES. A future notice will provide information about data collection for the study. A nationally representative sample of Head Start programs and centers from Regions I-X (FACES 2019) and a representative sample of Head Start programs and centers from Region XI (AI/AN FACES 2019) will be selected to participate in FACES 2019. From Regions I-X, the programs participating in the Core child-level data collection will be contacted and recruited for the study in spring 2019. In fall 2019, the remaining programs participating in classroom-level data collection will be contacted. All programs will be contacted a second time in fall 2021 to confirm their continued participation in the Core spring 2022 data collection. The programs from Region XI would be recruited a year before data collection (i.e., fall 2018) given the increased amount of time to recruit programs in tribal communities and to obtain tribal council and/or tribal leadership approval.

The method of data collection for recruitment of all programs will include telephone conversations with program directors and on-site coordinators who serve as liaisons between the FACES study team and the Head Start centers. All of these calls will inform program staff about the purpose of the study and will gather lists of centers in each program in order to compile the center sampling frame. The purpose of this data collection is to support the 2007 reauthorization of the Head Start program (Pub. L.110-134), which calls for periodic assessments of Head Start's quality and effectiveness.

Respondents: Head Start Program Directors and Staff.

Annual Burden Estimates
Instrument | Total number of respondents | Annual number of respondents | Number of responses per respondent | Average burden hours per response | Annual burden hours
Telephone script and recruitment information collection for program directors, Regions I-X | 230 | 77 | 2 | 1 | 154
Telephone script and recruitment information collection for program directors, Region XI | 30 | 10 | 1 | 1 | 10
Telephone script and recruitment information collection for on-site coordinators, Regions I-X | 230 | 77 | 2 | .75 | 116
Telephone script and recruitment information collection for on-site coordinators, Regions XI | 30 | 10 | 1 | .75 | 8

Estimated Total Annual Burden Hours: 288.

Additional Information: Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2018-03431 Filed 2-20-18; 8:45 am]

BILLING CODE 4184-22-P